ENVIRONMENTAL PROTECTION AGENCY

[FRL-7384-4]

Agency Information Collection Activities: Proposed Collection; Comment Request; Pre-Award Compliance Review Report for All Applicants Requesting Federal Financial Assistance

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Preaward Compliance Review Report—ICR Number 0275.08; Active ICR OMB Expiration Date 02/28/2003 and OMB Control Number 2090-0014 before submitting the ICR to OMB for review and approval, EPA is soliciting comments on specific aspects of the proposed information collection as described below.

DATES: Comments must be submitted on or before November 26, 2002.

ADDRESSES: Interested Persons may obtain a copy of the ICR without charge by calling 202-564-7272 or by writing the U.S. Environmental Protection Agency, Office of Civil Rights (1201A), 1200 Pennsylvania Ave NW., Washington, DC 20460.

FOR FURTHER INFORMATION CONTACT: Yasmin Yorker, Title VI Team Leader, 202-564-7272, Yorker.Yasmin@epa.gov.

SUPPLEMENTARY INFORMATION: Affected entities: Entities potentially affected by this action are those which request federal financial assistance from the Environmental Protection Agency.

Title: Preaward Compliance Review Report for all Applicants Requesting Federal Financial Assistance (OMB Control No. 2090-0015; EPA ICR No. 0275.08 expiring 2/28/03)

Abstract: The information request and gathering is a part of the requirement of 40 CFR part 7, “Nondiscrimination in Programs Receiving Federal Assistance from the Environmental Protection Agency,” at 40 CFR 7.80. The Regulation implements statutes which prohibit discrimination on the bases of race, color, national origin, sex and handicap. This information is also required, in part, by the Department of Justice regulation, 28 CFR 42.406 and 28 CFR 42.407. The information is collected on a short form for grant and loan applicants as part of the application process. The EPA Director of Civil Rights manages the data collection through a regional component whom also carries out the data analysis and makes the recommendation on the respondent's ability to meet the requirements of the regulation, as well as the respondent's current compliance with the regulation. The information and analysis is of sufficient value for the Director to determine whether the appliance is in compliance with the regulation.

An agency may not conduct or sponsor, and a person is not required to respond to, a collection of information unless it displays a currently valid OMB control number. The OMB control numbers for EPA's regulations are listed in 40 CFR part 9 and 48 CFR Chapter 15. Give enough background information so someone could comment on points (i)-(iv) below.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Affected Entities: State, local, and tribal governments; universities, associations; and non-profit organizations.

Estimated Number of Respondents: 13,100.

Frequency of Response: 1 per 1 to 2 years.

Estimated Total Annual Hour Burden: 6,550 hours.

Estimated Total Annualized Cost Burden (non-labor costs): $0.

Dated: September 18, 2002.
Karen D. Higginbotham,
Acting Director, Office of Civil Rights.

[FR Doc. 02-24645 Filed 9-26-02; 8:45 am]

BILLING CODE 6560-50-P